DEPARTMENT OF HOMELAND SECURITY

U.S. Customs and Border Protection

DEPARTMENT OF THE TREASURY

19 CFR Part 12

[CBP Dec. 20-01]

RIN 1515-AE50

Emergency Import Restrictions Imposed on Archaeological and Ethnological Material From Yemen

AGENCY: U.S. Customs and Border Protection, Department of Homeland Security; Department of the Treasury.

ACTION: Final rule.

SUMMARY: This final rule amends the U.S. Customs and Border Protection (CBP) regulations to reflect the imposition of emergency import restrictions on certain archaeological and ethnological material from the Republic of Yemen (Yemen). The Assistant Secretary for Educational and Cultural Affairs, United States Department of State, has determined that conditions warrant the imposition of emergency restrictions on categories of archaeological material and ethnological material of the Islamic cultural heritage of Yemen. This document contains the Designated List of Archaeological and Ethnological Material of Yemen that describes the types of objects or categories of archaeological and ethnological material to which the import restrictions apply. The emergency import restrictions imposed on certain archaeological and ethnological material from Yemen will be in effect for a five-year period from the date on which Yemen requested that such restrictions be imposed, until September 11, 2024, unless renewed. These restrictions are being imposed pursuant to determinations of the United States Department of State made under the terms of the Convention on Cultural Property Implementation Act.

DATES: Effective on February 5, 2020.

FOR FURTHER INFORMATION CONTACT: For legal aspects, Lisa L. Burley, Chief, Cargo Security, Carriers and Restricted Merchandise Branch, Regulations and Rulings, Office of Trade, (202) 325-0300, otrrculturalproperty@cbp.dhs.gov. For operational aspects, Genevieve S. Dozier, Management and Program Analyst, Commercial Targeting and Analysis Center, Trade Policy and Programs, Office of Trade, (202) 945-2952, CTAC@cbp.dhs.gov.

SUPPLEMENTARY INFORMATION:

Background

The Convention on Cultural Property Implementation Act, Public Law 97-446, 19 U.S.C. 2601 et seq. (“the Cultural Property Implementation Act” or “Act”), implements the 1970 United Nations Educational, Scientific and Cultural Organization (UNESCO) Convention on the Means of Prohibiting and Preventing the Illicit Import, Export and Transfer of Ownership of Cultural Property (823 U.N.T.S. 231 (1972)) (“the Convention”). Pursuant to the Cultural Property Implementation Act, the United States may enter into international agreements with another State Party to the Convention to impose import restrictions on eligible archaeological and ethnological material under procedures and requirements prescribed by the Act.

Under certain limited circumstances, the Cultural Property Implementation Act authorizes the imposition of import restrictions on an emergency basis (19 U.S.C. 2603). The emergency restrictions are effective for no more than five years from the date of the State Party's request and may be extended for three years where it is determined that the emergency condition continues to apply with respect to the covered material (19 U.S.C. 2603(c)(3)). These restrictions may also be continued pursuant to an agreement concluded within the meaning of the Act (19 U.S.C. 2603(c)(4)).

Pursuant to 19 U.S.C. 2602(a), the government of the Republic of Yemen (Yemen), a State Party to the Convention, requested on September 11, 2019, that import restrictions be imposed on certain archaeological and ethnological material, the pillage of which jeopardizes the cultural heritage of Yemen. The Cultural Property Implementation Act authorizes the President (or designee) to apply import restrictions on an emergency basis if the President determines that an emergency condition applies with respect to any archaeological or ethnological material of any requesting state (19 U.S.C. 2603).

On December 5, 2019, the Assistant Secretary for Educational and Cultural Affairs, United States Department of State, after consultation with and recommendation by the Cultural Property Advisory Committee, made the determinations necessary under the Act for the emergency imposition of import restrictions on certain archaeological material and ethnological material of the Islamic cultural heritage of Yemen. The Designated List below sets forth the categories of material to which the import restrictions apply. Thus, U.S. Customs and Border Protection (CBP) is amending § 12.104g(b) of title 19 of the Code of Federal Regulations (19 CFR 12.104g(b)) accordingly.

Importation of covered material from Yemen will be restricted for a five-year period from the date of request by Yemen, through September 11, 2024. Importation of such material from Yemen will continue to be restricted through that date unless the conditions set forth in 19 U.S.C. 2606 and 19 CFR 12.104c are met.

Designated List of Archaeological and Ethnological Material of Yemen

Table of Contents

I. Archaeological Material

A. Stone

B. Metal

C. Ceramic and Clay

D. Glass, Faience, and Semi-Precious Stone

E. Painting

F. Plaster

G. Textiles

H. Leather, Parchment, and Paper

I. Wood, Bone, Ivory, Shell, and Other Organics

II. Ethnological Material

A. Stone

B. Metal

C. Ceramic and Clay

D. Glass

E. Painting and Drawing

F. Textiles, Basketry, and Rope

G. Leather and Parchment

H. Wood

I. Bone and Ivory

I. Archaeological Material

Archaeological material dates from approximately 200,000 B.C. to A.D. 1750 and represents the following periods, styles, and cultures: Paleolithic, Neolithic, South Arabian, Abyssinian, Sasanian, and Islamic (Umayyad, Abbasid, Ziyadid, Zaydi, Najahid, Sulaihid, Zurayid, Ayyubid, Rasulid, and Tahirid), among others. A chronological outline of pre-Islamic Yemen includes the Paleolithic Period (c. 200,000-8000 B.C.), Neolithic Period (8000-3000 B.C.), Post-Neolithic/Bronze Age (3500-1200 B.C.), South Arabian Period (Sabaean, Minean, Qataban, Hadhramaut, Himyarite) (1200 B.C.-A.D. 570), Abyssinian (c. 4th century A.D.-A.D. 578), and the Sasanian Period (A.D. 570-628). Subsequent archaeological material from the Islamic Period covers A.D. 628-1750. The Designated List set forth below is representative only. Any dates and dimensions are approximate.

A. Stone

1. Architectural Elements—Primarily in limestone, marble, and sandstone; including blocks from walls, floors, and ceilings; columns, capitals, bases, lintels, jambs, friezes, and pilasters; doors, door frames, and window fittings; engaged columns, altars, prayer niches, screens, fountains, mosaics, and inlays. May be plain, molded, carved, or inscribed in various languages and scripts. Common decorative motifs include ibex heads and full animals, oxen or bull heads, rosettes, and curvilinear vine and floral patterns, and may be incised or in high relief. Approximate date: 1200 B.C.-A.D. 1750.

2. Non-Architectural Relief Sculpture—In alabaster, limestone, marble, calcite, and other kinds of stone. Types include carved slabs and plaques, funerary and votive stelae, and bases and base revetments. These may be painted, incised, or carved with relief sculpture, decorated with moldings, and/or carry dedicatory or funerary inscriptions. South Arabian Period styles include face plaques and stelae: Funerary images of faces; may be combined with ceramic or plaster sculpture; may be inscribed or painted. Common decorative motifs either incised or in high relief include oxen or bull heads, other animals, mythological creatures, human figures, which are usually clothed, and vegetative and floral patterns; may be inscribed in South Arabian script. Approximate date: 1200 B.C.-A.D. 570.

3. Statuary—Primarily in alabaster, also in calcite, limestone, sandstone, softstone (chlorite), and marble. Large- and small-scale, including deities; human figures, which are usually clothed; animals such as bulls, ibex, and camels; and hybrid or mythological creatures. May be inscribed. Includes fragments of statues. Some pieces may also include different material types, including multiple types of stone, metal staffs, shell or bone eyes, and metal, glass, and semi-precious stone jewelry inlay. Approximate date: 1200 B.C.-A.D. 570.

4. Vessels and Containers—Primarily in alabaster, softstone (chlorite), and limestone; may also be marble, basalt, or other stone. Vessels may be conventional shapes such as bowls, cups, jars, jugs, platters, and flasks, and also include smaller funerary urns and incense burners. Common forms include, but are not limited to:

a. South Arabian Period containers for unguents, powders, and liquids in all shapes and sizes. They are flat-bottomed and often have lids. Some pieces have protruding pierced lug handles, which may or may not be in the shape of an animal, usually a bull or ibex. Vessels may be otherwise decorated or inscribed with South Arabian, or other script. Other forms include pedestal dishes, bowls, saucers, and three-legged cosmetic palettes, as well as small, rectangular, square-sided boxes, usually decorated with bull's heads, used as containers for smaller bottles. Incense burners from the South Arabian period are usually cuboid and decorated with astral symbols or South Arabian script. Approximate date: 1200 B.C.-A.D. 570.

b. Stone vessels continue in similar form through the Sasanian and Islamic Periods, particularly in softstone and alabaster. Includes all vessel types and lamps, usually with geometric incised decoration; may have Arabic script. Approximate date: A.D. 570-1750.

5. Furniture—In marble, alabaster, and other stone. May include thrones, tables, and other examples. Also includes pieces of furniture such as legs and feet that may have been attached to a wooden frame; may be funerary. Includes South Arabian Period libation and sacrificial altars, which are oblong or square slabs with raised rims; altars have a run-off channel for liquid, usually in the form of an animal including bull's head or ibex. Approximate date: 200,000-1200 B.C.

6. Tools and Weapons—In flint/chert, obsidian, limestone, tuff, basalt, and other stones. Prehistoric and protohistoric microliths (small stone tools). Chipped stone types include blades, borers, scrapers, sickles, cores, and arrowheads. Ground stone types include grinders (e.g., mortars, pestles, millstones, whetstones), choppers, axes, hammers, and mace heads. Approximate date: 200,000-1200 B.C.

7. Jewelry, Seals, and Beads—In marble, limestone, and various semi-precious stones, including rock crystal, amethyst, garnet, jasper, agate, steatite, and carnelian. Seals may include animals, human figures, and/or inscriptions in various languages. Beads include cylindrical, spherical, conical, disc, and other types; may have cut, incised, or raised decoration.

B. Metal

1. Non-Architectural Relief Sculpture—Includes cast relief plaques or tablets, appliques, stelae, and masks; often in bronze or copper. Decoration includes human and animal figures, geometric, and floral motifs. May be inscribed/cast relief in South Arabian, Arabic, or other script. Approximate date: 1200 B.C.-A.D. 1750.

2. Statuary—Primarily in copper, bronze, silver, or gold; includes fragments of statues. Range from larger-than-life-size to small figurines; forms include human figures, which may be clothed or not; animals such as camels, ibex, oxen, bulls, and lions; or mythological creatures/figures; and trophies such as votive hands. May be painted or inscribed/cast relief in South Arabian, Arabic, or other script.

3. Vessels and Containers—Primarily in copper, bronze, or iron; Islamic Period includes more examples in silver and gold. May include forms such as bowls, cups, jars, jugs, strainers, buckets, cauldrons, boxes, oil lamps, incense burners, and scroll or manuscript containers; may occur in the shape of an animal or part of an animal. Decoration may include humans or animal figures, or geometric or floral motifs in relief. Incense burners from this period may be square or cylindrical; front decorated with astral symbols and/or animals. May be inscribed/cast relief in South Arabian, Arabic, or other script.

4. Furniture—Primarily in bronze and iron; may include thrones, tables, and other examples. Includes pieces of furniture and decorative fittings such as legs and feet that may have been attached to a wooden frame; or thin metal sheets with engraved or impressed designs.

5. Tools and Instruments—In copper, bronze, iron, silver, and gold. Types include hooks, weights, axes, scrapers, trowels, keys, ladles, tools of craftspersons such as carpenters, masons, and metal smiths. Approximate date: 1200 B.C.-A.D. 570.

6. Weapons and Armor—In copper, bronze, and iron. Body armor, such as helmets, cuirasses, shin guards, shields, and horse armor; often decorated with elaborate engraved, embossed, or perforated designs. Launching weapons (spears, javelins, socketed arrowheads); hand-to-hand combat weapons (swords, daggers, jambiyas); and sheaths. Approximate date: 1200 B.C.-A.D. 570.

7. Jewelry and Other Items for Personal Adornment—In iron, bronze, silver, and gold. Metal can be inlaid (with items such as colored stones, and glass). Types include necklaces, amulets and pendants, rings, bracelets, anklets, earrings, diadems, wreaths and crowns, beads, buttons, purses, belts, belt buckles, mirrors, and make-up accessories and tools.

8. Seals and Stamps—In lead, tin, copper, bronze, silver, and gold. Small devices with at least one side engraved with a design for stamping or sealing; includes rings, amulets, and seals with a shank; may include animals, human figures, and/or inscriptions in various languages.

9. Coins—A reference book for ancient, pre-Islamic material in Yemen is M. Huth, Coinage of the Caravan Kingdoms: Ancient Arabian Coins from the Collection of Martin Huth, New York, 2010, pp. 68-152. A reference book for Islamic coinage to A.D. 1750 is S. Album, Checklist of Islamic Coins, Santa Rosa, 2011, pp. 116-127. Some of the best-known types are described below:

a. Ancient—In gold, silver, and bronze/copper, with units ranging from tetradrachms down to various fractional levels.

i. Earliest coins from Yemen are imitations of silver tetradrachms from Athens; feature a bust of Athena on the obverse and an owl on the reverse. The style of these imitations is distinctive, and they are usually marked with Arabian monograms or graffiti. Approximate date: 500 B.C. and later.

ii. Minaeans produced schematic imitations of the Athenian coinage; these coins have angular shapes, often triangular. Style is distinctive with monograms with Arabian letters. Approximate date: 200 B.C.

iii. Sabaeans struck distinctive local imitations of Athenian tetradrachms, with or without monograms, often with the curved symbol of Almaqah to the right of the owl, and of smaller units than previously. In the 1st century A.D., the head of Athena is replaced with a male bust resembling Augustus; owl on the reverse continues, as do monograms and the curved symbol. In the 2nd and 3rd centuries A.D., a beardless male head appears on the coins with the curved symbol, and a facing bucranium (a bull's head) appears on the reverse with the curved symbol and monograms. Approximate date: 400 B.C.-A.D. 300.

iv. Himyarite coins feature beardless male heads on the obverse coupled with bearded male heads on the reverse. Various South Arabian monograms appear on the coins. Rulers include Yuhabirr, Karib'il Yehun`im Wattar, Amdan Yuhaqbid, Amdan Bayan, Tha'ran Ya`ub, Shamnar Yuhan`am, and unknown kings. Approximate date: 110 B.C.-A.D. 200.

v. Qatabians produced imitations of Athenian coins also in 2nd-4th century B.C., with or without monograms; distinctive style. From the 2nd century B.C. to the 2nd century A.D., head of Athena is replaced with male ruler portraits, including those of Yad'ab Dhubyan Yuhargib, Dhub, Hawfi`Amm Yuhan`am III, Shahr Yagul, Waraw'il Ghaylan, Shahr Hilal, Yad`ab Yanaf, and various unknown rulers. Reverses of early types have the owl, while later types have a second portrait on the reverse. Approximate date: 400 B.C.-A.D. 200.

vi. Bronze coins from Hadramawt have radiate male portraits in a circle on the obverse and a standing bull on the reverse; Arabian symbols appear. Approximate date: A.D. 200-400.

vii. Various South Arabian types imitate Athenian coins, Hellenistic Alexander tetradrachms with a head of Herakles on the obverse and Zeus seated on the reverse, and Ptolemaic coins with a cornucopia on the reverse. Style is distinctive; designs are accompanied by Arabian monograms.

b. Islamic Period—In gold, silver, and bronze, and including anonymous mints in Yemen, and coins of unknown rulers attributed to Yemen. Non-exclusive mints are the primary manufacturers of the listed coins, but there may be other production mints.

i. `Abbasid coins struck in gold, silver, and bronze, at non-exclusive mints San`a, Zabid, `Adan, Dhamar, `Aththar, and Baysh mints. Approximate date: A.D. 786-974.

ii. Coins of the Amirs of San`a, struck in gold, at the mint of San`a. Approximate date: A.D. 909-911.

iii. Rassid (1st period) coins struck in gold and silver at Sa`da, San`a, Tukhla', and `Aththar. Approximate date: A.D. 898-1014.

iv. Coins of the Amirs of Yemen, struck in silver, at an uncertain mint. Approximate date: A.D. 1000-1100.

v. Coins of the Amirs of `Aththar, struck in gold, at the mint of `Aththar. Approximate date: A.D. 957-988.

vi. Tarafid coins, struck in silver, at the mint of `Aththar. Approximate date: A.D. 991-1004.

vii. Ziyadid coins, struck in gold and silver, at non-exclusive mint Zabid. Approximate date: A.D. 955-1050s.

viii. Khawlanid coins, struck in silver, at the mint of San`a. Approximate date: A.D. 1046-1047.

ix. Najjahid coins, struck in gold, at the mints Zabid and Dathina. Approximate date: A.D. 1021-1158.

x. Sulayhid coins, struck in gold and debased silver, at non-exclusive mints Zabid, `Aththar, `Adan, Dhu Jibla. Approximate date: A.D. 1047-1137.

xi. Zuray'id coins, struck in gold, at the mints of `Adan and Dhu Jibla. Approximate date: A.D. 1111-1174.

xii. Coins of Mahdid of Zabid, struck in silver, at the mint of Zabid. Approximate date: A.D. 1159-1174.

xiii. Rassid (2nd period) coins, struck in gold and silver, at non-exclusive mints Zufar, San`a, Sa`da, Huth, Dhirwah, Kahlan, Muda', `Ayyan, Bukur, al-Jahili, and Dhamar. Approximate date: A.D. 1185-1390.

xiv. Ayyubid coins, struck in gold, silver, and bronze, at the mints of Zabid, `Adan, Ta`izz, San`a, al-Dumluwa, Bukur, and Mayban. Approximate date: A.D. 1174-1236.

xv. Rasulid coins, struck in gold, silver, and bronze, at non-exclusive mints `Adan, Zabid, al-Mahjam, Ta`izz, San`a, Tha'bat, and Hajja. Approximate date: A.D. 1229-1439.

xvi. Tahirid coins, struck in silver, at the mint of `Adan. Approximate date: A.D. 1517-1538.

xvii. Rassid (3rd period) coins, struck in silver and bronze, at the mints of San`a, Zafir, and Thula. Approximate date: A.D. 1506-1572.

xviii. Ottoman coins, struck in gold, silver and bronze, at the mints of Zabid, San`a, `Adan, Kawkaban, Ta`izz, Sa`da, al-Mukha, and Malhaz. Approximate date: A.D. 1520-1750.

C. Ceramic and Clay

1. Architectural Elements—Baked clay (terracotta) elements used to decorate buildings. Elements include acroteria, antefixes, painted and relief plaques, revetments, carved and molded brick, and wall ornaments and panels.

2. Non-Architectural Relief Sculpture—Types include carved slabs and plaques, funerary and votive stelae, and bases and base revetments. Common decorative motifs include ibex heads and full animals, oxen or bull heads, rosettes, and curvilinear vine and floral patterns, and may be incised or in high relief; inscribed with South Arabian, Arabic, or other script. Includes face plaques and stelae: Funerary images of faces; may be combined with ceramic or plaster sculpture; may be inscribed or painted. Approximate date: 1200 B.C.-A.D. 1750.

3. Statuary—Range from large to small figurines; forms include human figures, usually clothed; animals such as camels, ibex, oxen, bulls, and lions; or mythological creatures/figures; and trophies such as votive hands. May be glazed or painted; may include South Arabian script. Approximate date: 1200 B.C.-A.D. 570.

4. Vessels—Include utilitarian types and fine tableware, incense burners, and oil lamps.

a. Post-Neolithic/Bronze Age—Includes hand built grey-brown or reddish-brown coarseware with large black or white inclusions, occasionally burnished; and fineware, which can have slipwash or burnish with incised or punctate decoration. Some pieces may also have imprints of basketry. Common forms include but are not limited to platters and shallow bowls with flat bases, deep bowls and basins with rounded bases, rimmed hemispheric bowls with rounded bases, hole-mouthed jars, necked jars, and large storage jars. Approximate date: 3500-900 B.C.

b. South Arabian Period—Includes hand built reddish-brown, yellow, and gray fabrics, which may be unfinished, burnished, or slip-glazed; the most common is red-burnished slip with carinated vessel shapes. Common forms include but are not limited to small rimmed jugs with flat base; small beakers and goblets; rimmed bowls, jars, and vases with ring bases; cooking pots with flat bases and straight walls; hemispherical bowls with ledge handles, often with black burnished slip; plates/platters with flat bases; goblets; amphorae; and oil lamps. Decoration includes paint, punctuation, incised or pressed designs including South Arabian script, and raised dots. Imported Roman terra sigillata ware, Nabatean painted pottery, Iranian fine orange painted ware, and Indian red polished ware are also common. Incense burners from this period may be square or cylindrical; decorated with astral symbols or South Arabian script. Approximate date: 1200 B.C.-A.D. 570.

c. Sasanian-Islamic Period—Includes stoneware, pottery, and porcelain, which may be unglazed utilitarian wares or glazed types; local types include but are not limited to reddish, pink, and white fabrics with glaze styles including turquoise slip-painted, bright yellow glaze, green-painted glaze, salad ware (light green), pseudo-celadon glazed, brown-painted, and blue glazed on white slip; may include Arabic calligraphy. Imported types are also common and include Abbasid Period alkaline blue Sasanian-Islamic jars (A.D. 700-1100); Abbasid Period opaque white glazed bowls, either plain or decorated with cobalt (A.D. 800-900); and sgraffiatto types in various forms with red fabric and incised and painted designs on white slip including floral, geometric, human, and animal motifs (A.D. 1100-1400); other types from China, Arabo-Persian Gulf, Indian Ocean, and East Africa are also present. Oil lamps from this period typically have rounded bodies with a hole on the top and in the nozzle, and may have handles or lugs and figural motifs; include glazed ceramic lamps, which may have a straight or round bulbous body with flared top, and several branches. Approximate date: A.D. 570-1750.

D. Glass, Faience, and Semi-Precious Stone

1. Architectural Elements—Mosaics; designs include landscapes, scenes of deities, humans, or animals, and activities such as hunting and fishing. There may also be vegetative, floral, or geometric motifs; often with religious imagery. Approximate date: A.D. 500-1750.

2. Vessels—Forms include small jars, bowls, animal-shaped vessels, goblets, spherical forms, candle holders, perfume and unguent jars, and lamps; may have cut, incised, raised, enameled, molded, or painted decoration; various colors. South Arabian Period and early Islamic Period types may be engraved and/or colorless or blue, green, or orange; may include floral, and/or geometric motifs; may include Arabic calligraphy. Approximate date: 1200 B.C.-A.D. 1750.

3. Jewelry—Forms include beads that may be cylindrical, spherical, conical, disc, and others; may have cut, incised, or raised decoration; various colors; molded and carved glass gemstones; may include other types of glass inlay. Approximate date: 1200 B.C.-A.D. 1750.

E. Painting

1. Rock Art—Incised, pecked, or painted drawings on natural rock surfaces. Decoration includes crosses; humans; animals, particularly camels, ibex, and snakes; and geometric and/or floral designs; includes fragments. May include pre-Islamic graffiti, commonly in South Arabian script. Approximate date: 12,000 B.C.-A.D. 100.

2. Wall Painting—Decoration includes crosses; humans; animals, particularly camels, ibex, and snakes; and geometric and/or floral designs; includes fragments. Painted on wood, stone, and plaster. May be on domestic or public walls or tombs.

F. Plaster

1. Stucco—Stucco reliefs, plaques, stelae, and inlays or other architectural decoration in stucco.

2. Face Plaques and Stelae—Funerary images of faces; may be combined with stone or ceramic sculpture; may be inscribed or painted.

G. Textiles

—Linen cloth used for mummy wrapping. Approximate date: 500 B.C.-A.D. 500.

H. Leather, Parchment, and Paper

1. Books and Manuscripts—Either scrolls, sheets, or bound volumes; including both secular texts and Islamic religious texts such as Qurans. Text is often written on vellum or other parchment (cattle, sheep, goat, or camel) and then gathered in leather bindings. Paper may also be used. Types include books and manuscripts, often written in brown ink, and then further embellished with colorful floral or geometric motifs; covers may also be stamped, gilded, or inset with metal, glass, and semi-precious stones.

2. Items for Personal Adornment—Primarily in leather, including belts, sandals, shoes, armor, necklaces, bracelets, and other types of jewelry.

I. Wood, Bone, Ivory, Shell, and Other Organics

1. Architectural and Non-Architectural Relief Sculpture—Carved and inlaid wood panels, rooms, beams, balconies, stages, panels, ceilings, and doors, frequently decorated with religious, floral, or geometric motifs; may have script in Arabic. Bone, ivory, and shell reliefs, plaques, stelae, and inlays may be carved or sculpted; commonly include human or animal figures, floral, and/or geometric motifs.

2. Statuary and Figurines—Primarily small-size figurines; forms include human figures, which may be clothed or not; animals such as camels, ibex; oxen, bulls, and lions; or mythological creatures/figures. May be painted or inscribed/cast relief in South Arabian, Arabic, or other script.

3. Furniture—Primarily in wood; may include thrones, other chairs, tables, and other examples.

4. Personal Ornaments and Objects of Daily Use—Types include amulets, combs, pins, spoons, small containers, bracelets, buckles, and beads. Wood, bone, ivory, and shell were also used either alone or as inlays in luxury objects including furniture, chests and boxes, writing and painting equipment, musical instruments, games, cosmetic containers, combs, and jewelry.

5. Seals and Stamps—Small devices with at least one side engraved with a design for stamping or sealing; they can be discoid, cuboid, or conoid; may include animals, human figures, and/or inscriptions in various languages.

6. Human Remains—Bone and bone fragments.

II. Ethnological Material

Ethnological material of Islamic cultural heritage form part of the remains of the Islamic period culture and civilization ranging in date from A.D. 1517 to 1918. Some of these items may occur in archaeological contexts.

A. Stone

1. Architectural Elements—Primarily in limestone, marble, and sandstone; including blocks from walls, floors, and ceilings; columns, capitals, bases, lintels, jambs, friezes, and pilasters; doors, door frames, and window fittings; altars, prayer niches, screens, fountains, mosaics, and inlays. May be plain, molded, carved, or inscribed in Arabic. Common decorative motifs include geometric, floral, and religious motifs, and may be incised or in high relief.

2. Non-Architectural Relief Sculpture—In alabaster, limestone, marble, and other types of stone. Types include carved slabs with religious, floral, or geometric motifs. Includes inscribed plaques, stelae, memorial stones, and tombstones; primarily in marble; may be engraved with Arabic script.

3. Statuary—Primarily in marble, but also in limestone and sandstone. Large- and small-scale, such as human and animal figures. May be inscribed. Includes fragments of statues. Some pieces may also include different material types, including multiple types of stone, metal staffs, shell or bone eyes, and metal and semi-precious stone jewelry inlay.

4. Vessels and Containers—Primarily in alabaster, softstone (chlorite), and limestone; may also be marble, basalt, or other stone. Vessels may be conventional shapes such as bowls, cups, jars, jugs, platters, and flasks, and include smaller funerary urns, incense burners, and lamps.

B. Metal

1. Architectural Elements—Primarily copper, brass, lead, and alloys, including doors, door fixtures, chandeliers, screens.

2. Vessels and Containers—In brass, copper, silver, or gold; plain, engraved, or hammered. May include forms such as bowls, cups, jars, jugs, strainers, buckets, pitchers, plates, tea pots, boxes, oil lamps, incense burners, lamps, and scroll or manuscript containers.

3. Tools and Instruments—In copper, bronze, iron, silver, and gold. Types include hooks, weights, axes, scrapers, trowels, keys, ladles, tools of craftspersons such as carpenters, masons, and metal smiths, and scientific instruments such as measuring containers, clocks, and astrolabes.

4. Weapons and Armor—In copper, bronze, and iron. Body armor, such as helmets, cuirasses, shin guards, shields, and horse armor; often decorated with elaborate engraved, embossed, or perforated designs. Launching weapons (spears, javelins, socketed arrowheads); hand-to-hand combat weapons (swords, daggers, jambiyas); and sheaths.

5. Jewelry and Other Items for Personal Adornment—In iron, bronze, silver, and gold. Metal can be inlaid (with items such as colored stones, and glass). Types include necklaces, amulets and pendants, rings, bracelets, anklets, earrings, diadems, wreaths and crowns, beads, buttons, purses, belts, belt buckles, mirrors, and make-up accessories and tools.

6. Ceremonial and Religious—Includes boxes (such as Quran boxes), plaques, amulets and pendants, stamps, and seal rings.

C. Ceramic and Clay

1. Architectural Elements—Baked clay (terracotta) elements used to decorate buildings. Elements include painted and relief plaques, revetments, carved and molded brick, wall ornaments and panels and/or painted tile wall ornaments and panels, sometimes with Arabic script.

2. Vessels and Containers—Include utilitarian types and fine tableware, incense burners, and oil lamps. Include glazed, molded, and painted ceramics, and molds. Types include boxes, plates, lamps, jars, and flasks. May be plain or decorated with floral or geometric patterns, or Arabic script, primarily using blue, green, brown, black, or yellow colors.

D. Glass

1. Beads—Forms include cylindrical, spherical, conical, disc, and others; may have cut, incised, or raised decoration; various colors.

E. Painting and Drawing

May depict courtly themes (e.g., rulers, musicians, riders on camels) and city and architectural views, among others; may also be represented in manuscripts.

F. Textiles, Basketry, and Rope

1. Religious Textiles—In linen, silk, and wool. Islamic textiles and fragments. Includes garments, hangings, shrine covers, and fragments.

2. Clothing—Embroidered veils and head coverings, traditional Islamic wedding and ceremonial clothing, for both religious and secular purposes.

3. Rugs—Primarily in wool; sometimes with reeds or leather. Both for decorative purposes as well as prayer. Often woven with floral or geometric designs in bright colors.

4. Baskets and Woven Mats—Plant fibers used to make baskets and containers in a variety of shapes and sizes; sandals and mats.

5. Nets and Ropes—Rope and string used for a variety of purposes, including binding, lifting water for irrigation, fishing, measuring, and stringing beads for jewelry and garments.

G. Leather and Parchment

1. Books and Manuscripts—Either as sheets or bound volumes; including both secular texts and Islamic religious texts such as Qurans. Text is often written on vellum or other parchment (cattle, sheep, goat, or camel) then gathered in leather bindings. Paper may also be used. Types include books, scrolls, and manuscripts. May be decorated with colorful religious, geometric, or floral motifs.

2. Saddles, Saddle Bags, and Saddle Covers—Made of leather; for riding horses or camels.

3. Bags—In addition to saddlebags, include leather Quran pouches, or water pouches.

4. Items for Personal Adornment—Primarily in leather, including belts, sandals, shoes, armor, necklaces, bracelets, and other types of jewelry.

H. Wood

1. Architectural Elements—Includes doors, door fixtures, panels, beams, balconies, altars, stages, screens, ceilings, and tent posts. Types include doors, door frames, windows, window frames, walls, panels, beams, ceilings, balconies, altars. May be decorated with religious, geometric, or floral motifs; may have Arabic script.

2. Architectural and Non-Architectural Relief Sculpture—Carved and inlaid wood panels, rooms, beams, balconies, stages, panels, ceilings, and doors, frequently decorated with religious, floral, or geometric motifs; may have script in Arabic.

3. Ceremonial and Religious—Includes pulpits (minbars) and prayer niches (mihrabs); book holders, lecterns, and cabinets; Quran boxes or other smaller objects such as chests and cases; Islamic study tables.

4. Vessels and Containers—Boxes, containers, chests, and other utilitarian objects. May be carved, painted, or inlaid. May be decorated with religious, geometric, or floral motifs; may have Arabic script.

5. Furniture—Includes thrones, chairs, tables, book holders, and cabinets.

I. Bone and Ivory

1. Vessels and Containers—Forms include small jars, perfume and unguent jars, and ritual vessels; may have cut, incised, raised, or painted decoration. May be decorated with religious, geometric, or floral motifs; may have Arabic script.

2. Ceremonial and Religious—Types include boxes, reliquaries (and their contents), plaques, amulets and pendants, stamps, and seal rings.

3. Inlays—For decorative furniture and architectural elements above.

Inapplicability of Notice and Delayed Effective Date

This amendment involves a foreign affairs function of the United States and is, therefore, being made without notice or public procedure (5 U.S.C. 553(a)(1)). For the same reason, a delayed effective date is not required under 5 U.S.C. 553(d)(3).

Regulatory Flexibility Act

Because no notice of proposed rulemaking is required, the provisions of the Regulatory Flexibility Act (5 U.S.C. 601 et seq.) do not apply.

Executive Orders 12866 and 13771

CBP has determined that this document is not a regulation or rule subject to the provisions of Executive Order 12866 or Executive Order 13771 because it pertains to a foreign affairs function of the United States, as described above, and therefore is specifically exempted by section 3(d)(2) of Executive Order 12866 and section 4(a) of Executive Order 13771.

Signing Authority

This regulation is being issued in accordance with 19 CFR 0.1(a)(1) pertaining to the Secretary of the Treasury's authority (or that of his/her delegate) to approve regulations related to customs revenue functions.

List of Subjects in 19 CFR Part 12

Cultural property, Customs duties and inspection, Imports, Prohibited merchandise, Reporting and recordkeeping requirements.

Amendment to CBP Regulations

For the reasons set forth above, part 12 of title 19 of the Code of Federal Regulations (19 CFR part 12) is amended as set forth below:

PART 12—SPECIAL CLASSES OF MERCHANDISE

1. The general authority citation for part 12 and the specific authority for § 12.104g continue to read as follows:

Authority: 5 U.S.C. 301; 19 U.S.C. 66, 1202 (General Note 3(i), Harmonized Tariff Schedule of the United States (HTSUS)), 1624.

* * * * *

Sections 12.104 through 12.104i also issued under 19 U.S.C. 2612;

* * * * *

2. In § 12.104g, the table in paragraph (b) is amended by adding Yemen to the list to read as follows:

§ 12.104g Specific items or categories designated by agreements or emergency actions.

* * * * *

(b) * * *

Table 2 to Paragraph (b)
State party | Cultural property | Decision No.
Yemen | Archaeological and ethnological material from Yemen | CBP Dec. 20-01.

Dated: February 4, 2020.
Mark A. Morgan,
Acting Commissioner, U.S. Customs and Border Protection.
Approved:
Timothy E. Skud,
Deputy Assistant Secretary of the Treasury.

[FR Doc. 2020-02553 Filed 2-5-20; 4:15 pm]

BILLING CODE 9111-14-P